PAROLE COMMISSION

Sunshine Act Meeting: Public Announcement

Pursuant to the Government in the Sunshine Act (Public Law 94-409) [5 U.S.C. Section 552b]

AGENCY HOLDING MEETING: Department of Justice, United States Parole Commission.

TIME AND DATE: 9:30 a.m., Wednesday, March 28, 2001.

PLACE: 5550 Friendship Blvd., Fourth Floor, Chevy Chase, MD 20815.

STATUS: Open.

MATTERS TO BE CONSIDERED: The following matters have been placed on the agenda for the open Parole Commission meeting:

1. Approval of minutes of previous Commission meeting.

2. Reports from the Chairman, Commissioners, Legal, Chief of Staff, Case Operations, and Administrative Sections.

AGENCY CONTACT: Sam Robertson, Case Operations, United States Parole Commission, (301) 492-5962.

Dated: March 20, 2001.
Michael A. Stover,
General Counsel, U.S. Parole Commission,

[FR Doc. 01-7342 Filed 3-21-01; 10:16 am]

BILLING CODE 4410-31-M